DEPARTMENT OF THE INTERIOR

National Park Service

[NPS-WASO-NRNHL-DTS#-29717; PPWOCRADI0, PCU00RP14.R50000]

National Register of Historic Places; Notification of Pending Nominations and Related Actions

AGENCY: National Park Service, Interior.

ACTION: Notice.

SUMMARY: The National Park Service is soliciting comments on the significance of properties nominated before January 25, 2020, for listing or related actions in the National Register of Historic Places.

DATES: Comments should be submitted by February 25, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before January 25, 2020. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

INDIANA

Clark County

Lincoln Heights Historic District, (Historic Residential Suburbs in the United States, 1830-1960 MPS), Bounded by Lewis & Clark Pkwy., Hibiscus Dr., the south side of Lynnwood Dr., and Lincoln Dr., Clarksville, MP100005043

Jackson County

Walnut Street Historic District, Roughly bounded by North Chestnut, 7th and North Poplar Sts., but extending south on North Walnut St. to 3rd St., Seymour, SG100005044

LaGrange County

Wolcott, George and Margaret, House, 105 Wolcott St., Wolcottville, SG100005042

Marion County

Fame Laundry, 1352 North Illinois St., Indianapolis, SG100005040

Parke County

Guthrie, William B. & Laura, House, 7459 North US 41, Bloomingdale vicinity, SG100005041

Tippecanoe County

Farmers Institute (Boundary Increase), 4636 West 660 South, Lafayette vicinity, BC100005038

MICHIGAN

Washtenaw County

Highland Cemetery, 943 North River St., Ypsilanti, SG100005026

MISSISSIPPI

Hinds County

Smith Apartments, 1047 Smith Dr., Raymond vicinity, SG100005036

Jones County

Oak Park School Complex, 1205 Queensburg Ave., Laurel, SG100005034

Yalobusha County

Simmons House, 120 McLarty Cir., Water Valley, SG100005035

OHIO

Defiance County

Defiance Downtown Historic District, Roughly bounded by Fort, Clinton, Arabella, and Wayne Sts., Defiance, SG100005021

Franklin County

Kaiser Commercial Building, 223-225 East Main St., Columbus, SG100005022

OREGON

Jackson County

Britt Gardens Site 35JA789, Address Restricted, Jacksonville vicinity, SG100005020

Marion County

Supreme Court and Library Building, 1163 State St., Salem, SG100005014

Multnomah County

Wheeldon Annex, 929-935 SW Salmon St., Portland, SG100005015

Multnomah School, 7688 SW Capitol Hwy., Portland, SG100005016

Miller, Elmer and Linnie, House, (Eliot Neighborhood MPS), 89 NE Thompson St., Portland, MP100005017

Portland Zoo Railway Historic District, 4001 SW Canyon Rd., Portland, SG100005018

Keating, John A. and Hattie Mae, House, 2531 SW St. Helens Ct., Portland, SG100005019

VERMONT

Washington County

Center Road Culvert, (Stone Transportation Culverts in Vermont: 1750 to 1930 MPS), Center Rd., East Montpelier, MP100005024

Windsor County

Brigham Hill Historic District, 172, 185, 189 & 211 Brigham Hill Rd., Norwich, SG100005025

WISCONSIN

Kenosha County

Runkel, John P. and Mary, House, 33301 Geneva Rd., Wheatland, SG100005013

A request for removal has been made for the following resources:

GEORGIA

Greene County

King—Knowles—Gheesling House, (Greensboro MRA), North St., Greensboro, OT87001442

Gwinnett County

Adair, Isaac, House, 1235 Chandler Rd., Lawrenceville vicinity, OT00001390

Additional documentation has been received for the following resources:

INDIANA

Floyd County

New Albany Downtown Historic District (Additional Documentation), Roughly between West First St., and East Fifth St.; West Main St. to East Spring St., New Albany, AD99001074

Tippecanoe County

Farmers Institute (Additional Documentation), 4626 West 660 South, Lafayette vicinity, AD86000609

Authority: Section 60.13 of 36 CFR part 60.

Dated: January 27, 2020.
Julie H. Ernstein,
Supervisory Archeologist, National Register of Historic Places/National Historic Landmarks Program.

[FR Doc. 2020-02521 Filed 2-7-20; 8:45 am]

BILLING CODE 4312-52-P